DEPARTMENT OF ENERGY

Federal Energy Regulatory Commission

Combined Notice of Filings

November 30, 2010.

Take notice that the Commission has received the following Natural Gas Pipeline Rate and Refund Report filings:

Docket Numbers: RP11-1543-000.

Applicants: Equitrans, L.P.

Description: Equitrans, L.P. submits tariff filing per 154.204: Equitrans' Negotiated Rate Agreement Filing to be effective 12/1/2010.

Filed Date: 11/29/2010.

Accession Number: 20101129-5086.

Comment Date: 5 p.m. Eastern Time on Monday, December 13, 2010.

Docket Numbers: RP11-1544-000.

Applicants: Tennessee Gas Pipeline Company.

Description: Tennessee Gas Pipeline 2009-2010 Cashout Report.

Filed Date: 11/29/2010.

Accession Number: 20101129-5088.

Comment Date: 5 p.m. Eastern Time on Monday, December 13, 2010.

Docket Numbers: RP11-1545-000.

Applicants: Southern Star Central Gas Pipeline, Inc.

Description: Southern Star Central Gas Pipeline, Inc. Annual Cash-Out Refund Report.

Filed Date: 11/29/2010.

Accession Number: 20101129-5090.

Comment Date: 5 p.m. Eastern Time on Monday, December 13, 2010.

Docket Numbers: RP11-1546-000.

Applicants: T.W. Phillips Pipeline Corp.

Description: T.W. Phillips Pipeline Corp. submits tariff filing per 154.203: NAESB Sup Compliance Filing to be effective 11/1/2010.

Filed Date: 11/29/2010.

Accession Number: 20101129-5119.

Comment Date: 5 p.m. Eastern Time on Monday, December 13, 2010.

Docket Numbers: RP11-1547-000.

Applicants: El Paso Natural Gas Company.

Description: El Paso Natural Gas Company submits tariff filing per 154.204: Agreement Update Filing to be effective 1/1/2011.

Filed Date: 11/29/2010.

Accession Number: 20101129-5141.

Comment Date: 5 p.m. Eastern Time on Monday, December 13, 2010.

Docket Numbers: RP11-1548-000.

Applicants: Iroquois Gas Transmission System, L.P.

Description: Iroquois Gas Transmission System, L.P. submits tariff filing per 154.204: 11/29/10 Negotiated Rates—BP Energy Co. to be effective 12/1/2010.

Filed Date: 11/29/2010.

Accession Number: 20101129-5146.

Comment Date: 5 p.m. Eastern Time on Monday, December 13, 2010.

Docket Numbers: RP11-1549-000.

Applicants: Natural Gas Pipeline Company of America LLC.

Description: Natural Gas Pipeline Company of America LLC submits tariff filing per 154.204: Non-Conforming Agreements to be effective 12/1/2010.

Filed Date: 11/29/2010.

Accession Number: 20101129-5161.

Comment Date: 5 p.m. Eastern Time on Monday, December 13, 2010.

Docket Numbers: RP11-1550-000.

Applicants: Southern Natural Gas Company.

Description: Southern Natural Gas Company submits tariff filing per 154.203: South System Expansion III Incremental Rate to be effective 1/1/2011.

Filed Date: 11/30/2010.

Accession Number: 20101130-5024.

Comment Date: 5 p.m. Eastern Time on Monday, December 13, 2010.

Docket Numbers: RP11-1551-000.

Applicants: Dominion Transmission, Inc.

Description: Dominion Transmission, Inc. submits tariff filing per 154.203: DTI—Notice of Gathering Service Termination to be effective N/A.

Filed Date: 11/30/2010.

Accession Number: 20101130-5025.

Comment Date: 5 p.m. Eastern Time on Monday, December 13, 2010.

Docket Numbers: RP11-1552-000.

Applicants: National Fuel Gas Supply Corporation.

Description: National Fuel Gas Supply Corporation submits tariff filing per 154.204: IG Rate—December 2010 to be effective 12/1/2010.

Filed Date: 11/30/2010.

Accession Number: 20101130-5027.

Comment Date: 5 p.m. Eastern Time on Monday, December 13, 2010.

Docket Numbers: RP11-1553-000.

Applicants: Trunkline Gas Company, LLC.

Description: Trunkline Gas Company, LLC submits tariff filing per 154.204: Negotiated Rates Filing—3 to be effective 12/1/2010.

Filed Date: 11/30/2010.

Accession Number: 20101130-5028.

Comment Date: 5 p.m. Eastern Time on Monday, December 13, 2010.

Docket Numbers: RP11-1554-000.

Applicants: Transcontinental Gas Pipe Line Company, LLC.

Description: Transcontinental Gas Pipe Line Company, LLC submits tariff filing per 154.403: S-2 Tracker Filing Effective 12-01-2010 to be effective 12/1/2010.

Filed Date: 11/30/2010.

Accession Number: 20101130-5029.

Comment Date: 5 p.m. Eastern Time on Monday, December 13, 2010.

Docket Numbers: RP11-1555-000.

Applicants: National Fuel Gas Supply Corporation.

Description: National Fuel Gas Supply Corporation submits tariff filing per 154.403: TSCA for 2011 to be effective 1/1/2011.

Filed Date: 11/30/2010.

Accession Number: 20101130-5047.

Comment Date: 5 p.m. Eastern Time on Monday, December 13, 2010.

Docket Numbers: RP11-1556-000.

Applicants: Western Gas Interstate Company.

Description: Western Gas Interstate Company submits tariff filing per 154.203: Western Gas Interstate Company Compliance Filing, Order No. 587-U to be effective 11/30/2010.

Filed Date: 11/30/2010.

Accession Number: 20101130-5048.

Comment Date: 5 p.m. Eastern Time on Monday, December 13, 2010.

Docket Numbers: CP11-34-000.

Applicants: Golden Pass Pipeline LLC.

Description: Application of Golden Pass Pipeline LLC to amend the certificate of public convenience and necessity.

Filed Date: 11/16/2010.

Accession Number: 20101116-5046.

Comment Date: 5 p.m. Eastern Time on Monday, December 13, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. 2010-30925 Filed 12-8-10; 8:45 am]

BILLING CODE 6717-01-P